DEPARTMENT OF ENERGY

Federal Energy Regulatory Commission

[Project No. 2246-047]

Yuba County Water Agency; Notice of Availability of Environmental Assessment

November 28, 2005.

In accordance with the National Environmental Policy Act of 1969 and the Federal Energy Regulatory Commission's (Commission) regulations, 18 CFR part 380 (Order No. 486, 52 FR 47897), the Office of Energy Projects has reviewed an application for an amendment of license for the Yuba River Development Project (FERC No. 2246) and has prepared an Environmental Assessment (EA) for the proposed amendment. The project is located on the North Yuba River downstream of Englebright Dam in Yuba County, California, about 20 miles northeast of Marysville and about 24 miles upstream from the confluence of the Yuba and Feather Rivers.

The licensee requests approval to construct and operate a 3,000 cubic feet per second (cfs) synchronous flow bypass system and to revise flow reduction and fluctuation criteria under article 33(d) of the license for the Narrows II development. Currently, the licensee is only capable of bypassing 650 cfs through the plant, which has a capacity of 3,400 cfs under full generation load. The proposed bypass system will allow the licensee, especially during emergency shutdown periods, to be able to minimize flow fluctuations downstream. The EA contains Commission staff's analysis of the probable environmental impacts of the proposal and concludes that approving the licensee's application would not constitute a major federal action significantly affecting the quality of the human environment.

The EA is attached to a Commission order titled “Order Modifying and Approving Amendment of License,” which was issued November 22, 2005, and is available for review and reproduction at the Commission's Public Reference Room, located at 888 First Street, NE., Room 2A, Washington, DC 20426. The EA may also be viewed on the Commission's Web site at http://www.ferc.gov using the “elibrary” link. Enter the project number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E5-6932 Filed 12-6-05; 8:45 am]

BILLING CODE 6717-01-P